DEPARTMENT OF COMMERCE

Bureau of Industry and Security

[Docket No. 071002551-7552-01]

National Defense Stockpile Market Impact Committee Request for Public Comments on the Potential Market Impact of Proposed Stockpile Disposals for Fiscal Year 2009

AGENCY: Bureau of Industry and Security, Commerce.

ACTION: Notice of inquiry.

SUMMARY: This notice is to advise the public that the National Defense Stockpile Market Impact Committee, co-chaired by the Departments of Commerce and State, is seeking public comments on the potential market impact of the proposed disposal levels of excess materials for the Fiscal Year (FY) 2009 Annual Materials Plan.

DATES: To be considered, written comments must be received by November 23, 2007.

ADDRESSES: Address all comments concerning this notice to Michael Vaccaro, U.S. Department of Commerce, Bureau of Industry and Security, Office of Strategic Industries and Economic Security, 1401 Constitution Avenue, NW., Room 3876, Washington, DC 20230, fax: (202) 482-5650 (Attn: Michael Vaccaro), e-mail: MIC@bis.doc.gov; or Peter Haymond, U.S. Department of State, Bureau of Economic and Business Affairs, Office of International Energy and Commodity Policy, Washington, DC 20520, fax: (202) 647-8758 (Attn: Peter Haymond), or e-mail: haymondp@state.gov.

FOR FURTHER INFORMATION CONTACT: David Newsom, Office of Strategic Industries and Economic Security, Bureau of Industry and Security, U.S. Department of Commerce, Telephone: (202) 482-7417.

SUPPLEMENTARY INFORMATION:

Background

Under the authority of the Strategic and Critical Materials Stock Piling Act of 1979, as amended (50 U.S.C. 98, et seq.), the Department of Defense (DOD), as National Defense Stockpile Manager, maintains a stockpile of strategic and critical materials to supply the military, industrial, and essential civilian needs of the United States for national defense. Section 3314 of the Fiscal Year (FY) 1993 National Defense Authorization Act (NDAA) (50 U.S.C. 98h-1) formally established a Market Impact Committee (the Committee) to “advise the National Defense Stockpile Manager on the projected domestic and foreign economic effects of all acquisitions and disposals of materials from the stockpile * * *.” The Committee must also balance market impact concerns with the statutory requirement to protect the Government against avoidable loss.

The Committee is comprised of representatives from the Departments of Commerce, State, Agriculture, Defense, Energy, Interior, the Treasury, and Homeland Security, and is co-chaired by the Departments of Commerce and State. The FY 1993 NDAA directs the Committee to consult with industry representatives that produce, process, or consume the materials contained in the stockpile.

In Attachment 1, the Defense National Stockpile Center (DNSC) lists the proposed quantities that are enumerated in the stockpile inventory for the FY 2009 Annual Materials Plan. The Committee is seeking public comments on the potential market impact of the sale of these materials. Public comments are an important element of the Committee's market impact review process.

The quantities listed in Attachment 1 are not disposal or sales target quantities, but rather a statement of the proposed maximum disposal quantity of each listed material that may be sold in a particular fiscal year by the DNSC. The quantity of each material that will actually be offered for sale will depend on the market for the material at the time of the offering as well as on the quantity of each material approved for disposal by Congress.

Submission of Comments

The Committee requests that interested parties provide written comments, supporting data and documentation, and any other relevant information on the potential market impact of the sale of these commodities. All comments must be submitted to the address indicated in this notice. All comments submitted through e-mail must include the phrase “Market Impact Committee Notice of Inquiry” in the subject line.

The Committee encourages interested persons who wish to comment to do so at the earliest possible time. The period for submission of comments will close on November 23, 2007. The Committee will consider all comments received before the close of the comment period. Comments received after the end of the comment period will be considered, if possible, but their consideration cannot be assured.

All comments submitted in response to this notice will be made a matter of public record and will be available for public inspection and copying. Anyone submitting business confidential information should clearly identify the business confidential portion of the submission and also provide a non-confidential submission that can be placed in the public record. The Committee will seek to protect such information to the extent permitted by law.

The Office of Administration, Bureau of Industry and Security, U.S. Department of Commerce, displays public comments on the BIS Freedom of Information Act (FOIA) Web site at http://www.bis.doc.gov/foia. This office does not maintain a separate public inspection facility. If you have technical difficulties accessing this Web site, please call BIS's Office of Administration at (202) 482-1900 for assistance.

Dated: October 5, 2007.
Christopher A. Padilla,
Assistant Secretary for Export Administration.

Attachment 1

Proposed FY 2009 Annual Materials Plan
Material | Unit | Quantity | Footnote
Aluminum Oxide, Abrasive | ST | 5,500 | ⁽¹⁾
Bauxite, Metallurgical Jamaican | LDT | 2,000,000 | ⁽¹⁾
Beryl Ore | ST | 1,000 | ⁽¹⁾
Beryllium Metal | ST | 40
Beryllium Copper Master Alloy | ST | 300 | ⁽¹⁾
Chromium, Ferro | ST | 150,000
Chromium, Metal | ST | 1,000
Cobalt | LB Co | 3,000,000 | ⁽¹⁾
Columbium Metal Ingots | LB Cb | 20,000 | ⁽¹⁾
Diamond Stones | ct | 520,000 | ⁽¹⁾
Germanium | Kg | 8,000
Manganese, Battery Grade, Natural | SDT | 20,000 | ⁽¹⁾
Manganese, Battery Grade, Synthetic | SDT | 3,000 | ⁽¹⁾
Manganese, Chemical Grade | SDT | 25,000 | ⁽¹⁾
Manganese, Ferro | ST | 100,000
Manganese, Metallurgical Grade | SDT | 250,000
Mica, All | LB | 17,000 | ⁽¹⁾
Platinum | Tr Oz | 9,000 | ⁽¹⁾
Platinum-Iridium | Tr Oz | 3,000 | ⁽¹⁾
Talc | ST | 1,000
Tantalum Carbide Powder | LB Ta | 8,000 | ⁽¹⁾
Tin | MT | 6,000 | ⁽¹⁾
Tungsten Metal Powder | LB W | 300,000 | ⁽¹⁾
Tungsten Ores & Concentrates | LB W | 8,000,000
VTE, Quebracho | LT | 6,000
VTE, Wattle | LT | 200 | ⁽¹⁾
Zinc | ST | 30,000 | ⁽¹⁾
¹ Actual quantity will be limited to remaining inventory.

[FR Doc. E7-20860 Filed 10-23-07; 8:45 am]

BILLING CODE 3510-33-P